DEPARTMENT OF COMMERCE

Bureau of Industry and Security

15 CFR Part 744

[Docket No. 191105-0076]

RIN 0694-AH85

Addition of Entities to the Entity List, Revision of an Entry on the Entity List, and Removal of Entities From the Entity List

Correction

In rule document 2019-24635 beginning on page 61538 in the issue of Wednesday, November 13, 2019, make the following corrections:

Supplement No. 4 to Part 744—Entity List

1. On page 61543, in the table, in the fourth row under PAKISTAN, in the rightmost column,

84 FR [INSERT FR PAGE NUMBER], November 13, 2019.

should read

83 FR 12479, 3/22/18.

84 FR [INSERT FR PAGE NUMBER], November 13, 2019.

2. On the same page, in the table, in the sixth row under PAKISTAN, in the rightmost column,

84 FR [INSERT FR PAGE NUMBER], November 13, 2019. Presumption of denial.

should read

84 FR [INSERT FR PAGE NUMBER], November 13, 2019.

3. On page 61545, in the table, in the fifth row under UNITED ARAB EMIRATES, in the rightmost column,

84 FR [INSERT FR PAGE NUMBER].

should read

84 FR [INSERT FR PAGE NUMBER], November 13, 2019.

[FR Doc. C1-2019-24635 Filed 12-5-19; 8:45 am]

BILLING CODE 1301-00-P